DEPARTMENT OF THE INTERIOR

Bureau of Land Management

[AA-10721, AA-10757, AA-11012, AA-11014, AA-11072, AA-12433, AA-12434, AA-12459, AA-12557, AA-12582, AA-12624 17X.LLAK944000.L14100000.HY0000.P]

Alaska Native Claims Selection

AGENCY: Bureau of Land Management, Interior.

ACTION: Notice of decision approving lands for conveyance.

SUMMARY: The Bureau of Land Management (BLM) hereby provides constructive notice that it will issue an appealable decision approving conveyance of the surface and subsurface estates in certain lands to Chugach Alaska Corporation, an Alaska Native regional corporation, pursuant to the Alaska Native Claims Settlement Act of 1971, as amended (ANCSA).

DATES: Any party claiming a property interest in the lands affected by the decision may appeal the decision in accordance with the requirements of 43 CFR part 4 within the time limits set out in the SUPPLEMENTARY INFORMATION section.

ADDRESSES: A copy of the decision may be obtained from: Bureau of Land Management, Alaska State Office, 222 West Seventh Avenue, #13, Anchorage, Alaska 99513-7504.

FOR FURTHER INFORMATION CONTACT: Chelsea Kreiner, BLM Alaska State Office, by phone at 907-271-4205 or by email at ckreiner@blm.gov. Persons who use a Telecommunications Device for the Deaf (TDD) may call the Federal Relay Service (FRS) at 1-800-877-8339 to contact the BLM, Alaska State Office, during normal business hours. The relay service is available 24 hours a day, 7 days a week, to leave a message or question with the BLM. The BLM will reply during normal business hours.

SUPPLEMENTARY INFORMATION: As required by 43 CFR 2650.7(d), notice is hereby given that the BLM will issue an appealable decision to Chugach Alaska Corporation. The decision approves conveyance of the surface and subsurface estates in certain lands pursuant to ANCSA (43 U.S.C. 1601, et seq.), as amended.

The lands are located in the vicinity of Prince William Sound, and aggregate 154.55 acres.

Notice of the decision will also be published once a week for four consecutive weeks in the Valdez Star newspaper.

Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until December 15, 2017 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed.

Chelsea Kreiner,
Land Law Examiner, Adjudication Section.

[FR Doc. 2017-24667 Filed 11-14-17; 8:45 am]

BILLING CODE 4310-JA-P